FEDERAL COMMUNICATIONS COMMISSION

47 CFR Part 32

Uniform System of Accounts for Telecommunications Companies

CFR Correction

In Title 47 of the Code of Federal Regulations, Parts 20 to 39, revised as of October 1, 2008, on page 415, in § 32.2000, remove and reserve paragraph (i).

[FR Doc. E9-22252 Filed 9-14-09; 8:45 am]

BILLING CODE 1505-01-D